DEPARTMENT OF DEFENSE

Office of the Secretary

[Docket ID: DOD-2009-OS-0070]

Privacy Act of 1974; System of Records

AGENCY: Defense Logistics Agency, DoD.

ACTION: Notice to amend 2 systems of records.

SUMMARY: The Defense Logistics Agency is proposing to amend system of records notices in its existing inventory of record systems subject to the Privacy Act of 1974 (5 U.S.C. 552a), as amended.

DATES: The proposed action will be effective without further notice on June 25, 2009 unless comments are received which would result in a contrary determination.

ADDRESSES: Chief Privacy and FOIA Officer, Headquarters Defense Logistics Agency, ATTN: DGA, 8725 John J. Kingman Road, Suite 1644, Fort Belvoir, VA 22060-6221.

FOR FURTHER INFORMATION CONTACT: Mr. Lewis Oleinick at (703) 767-6194.

SUPPLEMENTARY INFORMATION: The Defense Logistics Agency's system of record notices subject to the Privacy Act of 1974 (5 U.S.C. 552a), as amended, have been published in the Federal Register and are available from the address above.

The specific changes to the record system being amended are set forth below followed by the notice, as amended, published in its entirety. The proposed amendment is not within the purview of subsection (r) of the Privacy Act of 1974 (5 U.S.C. 552a), as amended, which requires the submission of new or altered systems reports.

Dated: May 18, 2009.
Morgan E. Frazier,
Alternate OSD Federal Register Liaison Officer, Department of Defense.

S180.20

SYSTEM NAME:

Biography File (July 19, 2006, 71 FR 41007).

CHANGES:

System identifier:

Delete entry and replace with “S190.24.”

* * * * *

STORAGE:

Delete entry and replace with “Records are maintained on electronic storage media.”

* * * * *

SAFEGUARDS:

Delete entry and replace with “No specific safeguards required. Biographies are submitted by the subject individual with the understanding that they will be posted to a public facing DLA Web page.”

SYSTEM MANAGER(S) AND ADDRESS:

Delete entry and replace with “Director, DLA Public Affairs Office, Headquarters, Defense Logistics Agency, 8725 John J. Kingman Road, Stop 2533, Fort Belvoir, VA 22060-6221, and the Heads of the Public Affairs Offices within each DLA field activity. Official mailing addresses are published as an appendix to DLA's compilation of systems of records notices.”

NOTIFICATION PROCEDURE:

Delete entry and replace with “Individuals seeking to determine whether information about themselves is contained in this system of records should address written inquiries to the Privacy Act Office, Headquarters, Defense Logistics Agency, ATTN: DGA, 8725 John J. Kingman Road, Suite 1644, Fort Belvoir, VA 22060-6221 or to the Privacy Act Office of the DLA field activity where assigned. Official mailing addresses are published as an appendix to DLA's compilation of systems of records notices.

Inquiry must contain the subject individual's full name, current address, and telephone number.”

RECORD ACCESS PROCEDURES:

Delete entry and replace with “Individuals seeking access to information about themselves contained in this system of records should address written inquiries to the Privacy Act Office, Headquarters, Defense Logistics Agency, ATTN: DGA, 8725 John J. Kingman Road, Suite 1644, Fort Belvoir, VA 22060-6221 or to the Privacy Act Office of the DLA field activity where assigned. Official mailing addresses are published as an appendix to DLA's compilation of systems of records notices.

Inquiry must contain the subject individual's full name, current address, and telephone number.”

CONTESTING RECORD PROCEDURES:

Delete entry and replace with “The DLA rules for accessing records, for contesting contents, and appealing initial agency determinations are contained in 32 CFR part 323, or may be obtained from the Privacy Act Office, Headquarters, Defense Logistics Agency, ATTN: DGA, 8725 John J. Kingman Road, Suite 1644, Fort Belvoir, VA 22060-6221.”

* * * * *

S190.24

SYSTEM NAME:

Biography File.

SYSTEM LOCATION:

Headquarters, Defense Logistics Agency, Public Affairs Office, 8725 John J. Kingman Road, Stop 2533, Fort Belvoir, VA 22060-6221, and the Public Affairs Offices of the DLA Field Activities. Official mailing addresses are published as an appendix to DLA's compilation of systems of records notices.

CATEGORIES OF INDIVIDUALS COVERED BY THE SYSTEM:

Selected civilian and military personnel currently and formerly assigned to DLA and other persons affiliated with DLA and the Department of Defense (DoD).

CATEGORIES OF RECORDS IN THE SYSTEM:

Biographical information provided by the individual.

AUTHORITY FOR MAINTENANCE OF THE SYSTEM:

5 U.S.C. 301, Departmental Regulations and 10 U.S.C. 133, Under Secretary of Defense for Acquisition, Technology, and Logistics.

PURPOSE(S):

Information is maintained as background material for news and feature articles covering activities, assignments, retirements, and reassignments of key individuals; for use in introductions; in the preparation of speeches for delivery at change of command, retirement, award ceremonies, and community relations events; for congressional functions; and for site visits.

ROUTINE USES OF RECORDS MAINTAINED IN THE SYSTEM, INCLUDING CATEGORIES OF USERS AND THE PURPOSES OF SUCH USES:

In addition to those disclosures generally permitted under 5 U.S.C. 552a(b) of the Privacy Act of 1974, these records contained therein may specifically be disclosed outside the DoD as a routine use pursuant to 5 U.S.C. 552a(b)(3) as follows:

To Federal, state, and local agency officials and/or private sector entities for use as background information for introductions, briefings, Congressional testimony, and/or meetings.

The DoD “Blanket Routine Uses” apply to this system of records.

POLICIES AND PRACTICES FOR STORING, RETRIEVING, ACCESSING, RETAINING, AND DISPOSING OF RECORDS IN THE SYSTEM:

STORAGE:

Records are maintained on electronic storage media.

RETRIEVABILITY:

Records are retrieved alphabetically by last name of individual.

SAFEGUARDS:

No specific safeguards required. Biographies are submitted by the subject individual with the understanding that they will be posted to a public facing DLA Web page.

RETENTION AND DISPOSAL:

Files are destroyed 2 years after retirement, transfer, separation, or death of the person concerned.

SYSTEM MANAGER(S) AND ADDRESS:

Director, DLA Public Affairs Office, Headquarters, Defense Logistics Agency, 8725 John J. Kingman Road, Stop 2533, Fort Belvoir, VA 22060-6221, and the Heads of the Public Affairs Offices within each DLA field activity. Official mailing addresses are published as an appendix to DLA's compilation of systems of records notices.

NOTIFICATION PROCEDURE:

Individuals seeking to determine whether information about themselves is contained in this system of records should address written inquiries to the Privacy Act Office, Headquarters, Defense Logistics Agency, ATTN: DGA, 8725 John J. Kingman Road, Suite 1644, Fort Belvoir, VA 22060-6221 or to the Privacy Act Office of the DLA field activity where assigned. Official mailing addresses are published as an appendix to DLA's compilation of systems of records notices.

Inquiry must contain the subject individual's full name, current address, and telephone number.

RECORD ACCESS PROCEDURES:

Individuals seeking access to information about themselves contained in this system of records should address written inquiries to the Privacy Act Office, Headquarters, Defense Logistics Agency, ATTN: DGA, 8725 John J. Kingman Road, Suite 1644, Fort Belvoir, VA 22060-6221 or to the Privacy Act Office of the DLA field activity where assigned. Official mailing addresses are published as an appendix to DLA's compilation of systems of records notices.

Inquiry must contain the subject individual's full name, current address, and telephone number.

CONTESTING RECORD PROCEDURES:

The DLA rules for accessing records, for contesting contents, and appealing initial agency determinations are contained in 32 CFR part 323, or may be obtained from the Privacy Act Office, Headquarters, Defense Logistics Agency, ATTN: DGA, 8725 John J. Kingman Road, Suite 1644, Fort Belvoir, VA 22060-6221.

RECORD SOURCE CATEGORIES:

The individual's record subject and record subject's employing agency or organization.

EXEMPTIONS CLAIMED FOR THE SYSTEM:

None.

S180.25

SYSTEM NAME:

Public Affairs Subscription Mailing Lists (August 25, 2006, 71 FR 50398).

CHANGES:

SYSTEM IDENTIFIER:

Delete entry and replace with “S190.32.”

* * * * *

SYSTEM LOCATION:

Delete entry and replace with “Headquarters, Defense Logistics Agency, Public Affairs Office, 8725 John J. Kingman Road, Stop 2533, Fort Belvoir, VA 22060-6221, and the Public Affairs Offices of the DLA field activities. Official mailing addresses are published as an appendix to DLA's compilation of systems of records notices.”

* * * * *

STORAGE:

Delete entry and replace with “Records are maintained on electronic storage media.”

* * * * *

SAFEGUARDS:

Delete entry and replace with “Access is limited to those individuals who require the records for the performance of their official duties. Electronic records are maintained in buildings with controlled or monitored access. During non-duty hours, records are secured in locked or guarded buildings, locked offices, or guarded cabinets. The electronic records systems employ user identification and password or smart card technology protocols.”

SYSTEM MANAGER(S) AND ADDRESS:

Delete entry and replace with “Director, DLA Public Affairs Office, Headquarters, Defense Logistics Agency, 8725 John J. Kingman Road, Stop 2533, Fort Belvoir, VA 22060-6221, and the Heads of the Public Affairs Offices within each DLA field activity. Official mailing addresses are published as an appendix to DLA's compilation of systems of records notices.”

NOTIFICATION PROCEDURE:

Delete entry and replace with “Individuals seeking to determine whether this system of records contains information about themselves should address written inquiries to the Privacy Act Office, Headquarters, Defense Logistics Agency, ATTN: DGA, 8725 John J. Kingman Road, Suite 1644, Fort Belvoir, VA 22060-6221 or to the Privacy Act Office of the particular DLA field activity involved. Official mailing addresses are published as an appendix to DLA's compilation of systems of records notices.

Inquiry must contain the subject individual's full name and current mailing address to permit locating the record.”

RECORD ACCESS PROCEDURE:

Delete entry and replace with “Individuals seeking access to information about themselves contained in this system of records should address written inquiries to the Privacy Act Office, Headquarters, Defense Logistics Agency, ATTN: DGA, 8725 John J. Kingman Road, Suite 1644, Fort Belvoir, VA 22060-6221 or to the Privacy Act Office of the particular DLA field activity involved. Official mailing addresses are published as an appendix to DLA's compilation of systems of records notices.

Inquiry must contain the subject individual's full name and current mailing address to permit locating the record.”

CONTESTING RECORD PROCEDURES:

Delete entry and replace with “The DLA rules for accessing records, for contesting contents and appealing initial agency determinations are contained in 32 CFR part 323, or may be obtained from the Privacy Act Office, Headquarters, Defense Logistics Agency, ATTN: DGA, 8725 John J. Kingman Road, Suite 1644, Fort Belvoir, VA 22060-6221.”

* * * * *

S190.32

SYSTEM NAME:

Public Affairs Subscription Mailing Lists.

SYSTEM LOCATION:

Headquarters, Defense Logistics Agency, Public Affairs Office, 8725 John J. Kingman Road, Stop 2533, Fort Belvoir, VA 22060-6221, and the Public Affairs Offices of the DLA field activities. Official mailing addresses are published as an appendix to DLA's compilation of systems of records notices.

CATEGORIES OF INDIVIDUALS COVERED BY THE SYSTEM:

Individuals and organizations who have registered with DLA Public Affairs Offices to automatically receive magazines, newsletters, periodicals and other professional publications.

CATEGORIES OF RECORDS IN THE SYSTEM:

Records maintained include individual's name, home or business telephone number, e-mail and mailing addresses, customer number, and publication(s) of interest.

AUTHORITY FOR MAINTENANCE OF THE SYSTEM:

5 U.S.C. 301, Departmental Regulations, and 10 U.S.C. 133, Under Secretary of Defense for Acquisition, Technology, and Logistics.

PURPOSE(S):

The system is used to produce subscription mailing lists for distribution of DLA publications, and to perform statistical analyses of reader interest and opinion.

ROUTINE USES OF RECORDS MAINTAINED IN THE SYSTEM, INCLUDING CATEGORIES OF USERS AND THE PURPOSES OF SUCH USES:

In addition to those disclosures generally permitted under 5 U.S.C. 552a(b) of the Privacy Act of 1974, these records contained therein may specifically be disclosed outside the DOD as a routine use pursuant to 5 U.S.C. 552a(b)(3) as follows:

The DoD “Blanket Routine Uses” apply to this system of records.

POLICIES AND PRACTICES FOR STORING, RETRIEVING, ACCESSING, RETAINING, AND DISPOSING OF RECORDS IN THE SYSTEM:

STORAGE:

Records are maintained on electronic storage media.

RETRIEVABILITY:

Records are retrieved by individual's name and address.

SAFEGUARDS:

Access is limited to those individuals who require the records for the performance of their official duties. Electronic records are maintained in buildings with controlled or monitored access. During non-duty hours, records are secured in locked or guarded buildings, locked offices, or guarded cabinets. The electronic records systems employ user identification and password or smart card technology protocols.

RETENTION AND DISPOSAL:

Records are destroyed when superseded or obsolete.

SYSTEM MANAGER(S) AND ADDRESS:

Director, DLA Public Affairs Office, Headquarters, Defense Logistics Agency, 8725 John J. Kingman Road, Stop 2533, Fort Belvoir, VA 22060-6221, and the Heads of the Public Affairs Offices within each DLA field activity. Official mailing addresses are published as an appendix to DLA's compilation of systems of records notices.

NOTIFICATION PROCEDURE:

Individuals seeking to determine whether this system of records contains information about themselves should address written inquiries to the Privacy Act Office, Headquarters, Defense Logistics Agency, ATTN: DGA, 8725 John J. Kingman Road, Suite 1644, Fort Belvoir, VA 22060-6221 or to the Privacy Act Office of the particular DLA field activity involved. Official mailing addresses are published as an appendix to DLA's compilation of systems of records notices.

Inquiry must contain the subject individual's full name and current mailing address to permit locating the record.

RECORD ACCESS PROCEDURE:

Individuals seeking access to information about themselves contained in this system of records should address written inquiries to the Privacy Act Office, Headquarters, Defense Logistics Agency, ATTN: DGA, 8725 John J. Kingman Road, Suite 1644, Fort Belvoir, VA 22060-6221 or to the Privacy Act Office of the particular DLA field activity involved. Official mailing addresses are published as an appendix to DLA's compilation of systems of records notices.

Inquiry must contain the subject individual's full name and current mailing address to permit locating the record.

CONTESTING RECORD PROCEDURES:

The DLA rules for accessing records, for contesting contents and appealing initial agency determinations are contained in 32 CFR part 323, or may be obtained from the Privacy Act Office, Headquarters, Defense Logistics Agency, ATTN: DGA, 8725 John J. Kingman Road, Suite 1644, Fort Belvoir, VA 22060-6221.

RECORD SOURCE CATEGORIES:

From the subject individual or the DLA organization publishing the document.

EXEMPTIONS CLAIMED FOR SYSTEM:

None.

[FR Doc. E9-12040 Filed 5-22-09; 8:45 am]

BILLING CODE 5001-06-P